DEPARTMENT OF VETERANS AFFAIRS

[OMB Control No. 2900-0021]

Agency Information Collection Activity: VA Loan Electronic Reporting Interface (VALERI) System

AGENCY: Veterans Benefits Administration, Department of Veterans Affairs.

ACTION: Notice.

SUMMARY: In compliance with the Paperwork Reduction Act (PRA) of 1995, this notice announces that the Veterans Benefits Administration, Department of Veterans Affairs, will submit the collection of information abstracted below to the Office of Management and Budget (OMB) for review and comment. The PRA submission describes the nature of the information collection and its expected cost and burden and it includes the actual data collection instrument.

DATES: Written comments and recommendations for the proposed information collection should be sent within 30 days of publication of this notice to www.reginfo.gov/public/do/PRAMain. Find this particular information collection by selecting “Currently under 30-day Review—Open for Public Comments” or by using the search function. Refer to “OMB Control No. 2900-0021.

FOR FURTHER INFORMATION CONTACT: Maribel Aponte, Office of Enterprise and Integration, Data Governance Analytics (008), 1717 H Street NW, Washington, DC 20006, (202) 266-4688 or email maribel.aponte@va.gov. Please refer to “OMB Control No. 2900-0021” in any correspondence.

SUPPLEMENTARY INFORMATION:

Authority: 38 CFR 36.4338(a)

Title: VA LOAN ELECTRONIC REPORTING INTERFACE (VALERI) SYSTEM.

OMB Control Number: 2900-0021.

Type of Review: Extension of approved information collection.

Abstract: VA is submitting a regular extension for an already approved collection. VA provides the authority for VA-guaranteed mortgage servicers to assist Veteran borrowers and their families experiencing financial difficulty. VA then provides oversight of the servicers' actions by collecting specific documentation and data. In today's environment, this collection is done via the VALERI application.

VA submitted an emergency information collection request, which was approved to January 31, 2022, to account for data collection requirements associated with the COVID-19 Refund Modification. Much like VA's temporary COVID-19 Veterans Assistance Partial Claim Payment program (COVID-VAPCP), servicers who offer the COVID-19 Refund Modification are required to report information related to selecting this home retention option to VA electronically.

An agency may not conduct or sponsor, and a person is not required to respond to a collection of information unless it displays a currently valid OMB control number. The Federal Register Notice with a 60-day comment period soliciting comments on this collection of information was published at 86 FR 51226 on September 14, 2021, pages 51226 and 51227.

Affected Public: Individuals or Households.

Estimated Annual Burden: 70 hours.

Estimated Average Burden per Respondent: 1 minute.

Frequency of Response: One time.

Estimated Number of Respondents: 967.

By direction of the Secretary.
Maribel Aponte,
VA PRA Clearance Officer, Office of Enterprise and Integration, Data Governance Analytics, Department of Veterans Affairs.

[FR Doc. 2021-25197 Filed 11-17-21; 8:45 am]

BILLING CODE 8320-01-P